DEPARTMENT OF VETERANS AFFAIRS

Notice of Intent To Grant an Exclusive License

AGENCY: Office of Research and Development, Department of Veterans Affairs.

ACTION: Notice of intent.

SUMMARY: Notice is hereby given that the Department of Veterans Affairs (VA), Office of Research and Development, Technology Transfer Program, intends to grant to Avicenna Medical, Inc., 3090 Dhu Varren Court, Ann Arbor, MI 48105, an exclusive license to the know-how documented in VA Invention Disclosure number 2016-186, titled “Med Rec Tool Plus (Navigator Tool).” The tool is a series of algorithms, embodied in software applications, to improve medication reconciliation. Currently, medical reconciliation is one of the most onerous and dangerous aspects of discharge (and admission). The tool streamlines the process of medication reconciliation, leaves fewer opportunities for error, and provides the patient with a clear and concise medication list upon discharge.

DATES: Comments must be received June 15, 2017.

ADDRESSES: Written comments may be submitted through www.regulations.gov; by mail or hand-delivery to the Director, Regulations Management (02REG), Department of Veterans Affairs, 810 Vermont Avenue NW., Room 1068, Washington, DC 20420; or by fax to (202) 273-9026. Copies of comments received will be available for public inspection in the Office of Regulation Policy and Management, Room 1063B, between the hours of 8:00 a.m. and 4:30 p.m., Monday through Friday (except holidays). Call (202) 461-4902 for an appointment. (This is not a toll-free number.) In addition, during the comment period, comments may be viewed online through the Federal Docket Management System at http://www.regulations.gov.

FOR FURTHER INFORMATION CONTACT: Dr. Lee A. Sylvers, Technology Transfer Specialist, Office of Research and Development (10P9TT), Department of Veterans Affairs, 810 Vermont Avenue NW., Washington, DC 20420, (202) 443-5646. (This is not a toll-free number.)

SUPPLEMENTARY INFORMATION: It is in the public interest to license this invention. Avicenna Medical, Inc. submitted a complete and sufficient application for a license. The prospective exclusive license will be royalty-bearing and will comply with the terms and conditions of 35 U.S.C. 209 and 37 CFR 404.7. The prospective exclusive license may be granted unless, within 15 days from the date of this published Notice, the Department of Veterans Affairs, Office of Research and Development, Technology Transfer Program receives written evidence and argument which establishes that the grant of the license would not be consistent with the requirements of 35 U.S.C. 209 and 37 CFR 404.7.

Signing Authority: The Secretary of Veterans Affairs, or designee, approved this document and authorized the undersigned to sign and submit the document to the Office of the Federal Register for publication electronically as an official document of the Department of Veteran Affairs. Gina S. Farrisee, Deputy Chief of Staff, approved this document on May 24, 2017, for publication.

Approved: May 24, 2017.
Jeffrey Martin,
Office Program Manager, Office of Regulation Policy & Management, Office of the Secretary, Department of Veterans Affairs.

[FR Doc. 2017-11140 Filed 5-30-17; 8:45 am]

BILLING CODE 8320-01-P